FEDERAL COMMUNICATIONS COMMISSION

Information Collection Being Reviewed by the Federal Communications Commission Under Delegated Authority

AGENCY: Federal Communications Commission.

ACTION: Notice and request for comments.

SUMMARY: As part of its continuing effort to reduce paperwork burdens, and as required by the Paperwork Reduction Act (PRA) of 1995 (44 U.S.C. 3501-3520), the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before March 17, 2014. If you anticipate that you will be submitting comments, but find it difficult to do so within the period of time allowed by this notice, you should advise the contact listed below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: OMB Control Number: 3060-1148.

Title: Section 79.3, Video Description of Video Programming.

Form Number: Not Applicable.

Type of Review: Extension of a currently approved collection.

Respondents: Business or other for-profit entities, Not for profit entities and Individual or households.

Number of Respondents and Responses: 50 respondents, 54 responses.

Estimated Time per Response: 1-5 hours.

Frequency of Response: On occasion reporting requirement.

Total Annual Burden: 115 hours.

Total Annual Costs: $22,140.

Obligation to Respond: Required to obtain or retain benefits. The statutory authority for this collection is contained in 47 U.S.C. 151, 152, 154(i), 303 and 613.

Nature and Extent of Confidentiality: There is no need for confidentiality with this collection of information.

Privacy Impact Assessment: No impact(s).

Needs and Uses: On March 3, 2011, the Commission released a Notice of Proposed Rulemaking (NPRM), FCC 11-36, in the Communications and Video Accessibility Act (CVAA) Video Description proceeding, MB Docket No. 11-43. The NPRM proposed to reinstate the Commission's video description rules adopted in 2000. On April 22, 2011, the Office of Management and Budget (OMB) pre-approved the information collection requirements contained in the proposed rules. On August 25, 2011, the Commission released a Report and Order, FCC 11-126, in the CVAA Video Description proceeding, MB Docket No. 11-43. The Reported and Order adopted the proposed information collection requirements without change. The final rules were codified at 47 CFR 79.3. On September 8, 2011, OMB issued its final approval for the information collection requirements. As discussed below, the information collection requirements include (1) video programming provider petitions for exemption based on “economic burden” and (2) non-form consumer complaints alleging violations of the video description rules. On June 25, 2012, the Commission received OMB approval for the removal of a portion of the burden hours and costs that were approved under 3060-1148 and placed into collection 3060-0874 (relating to the FCC Form 2000). This modification was due to the filing of complaints alleging violations of the video description rules now being filed via FCC Form 2000C.

Video description is the insertion of audio narrated descriptions of a television program's key visual elements into natural pauses in the program's dialogue, makes video programming more accessible to individuals who are blind or visually impaired. In 2000, the Commission adopted rules requiring certain broadcasters and MVPDs to carry programming with video description. The United States Court of Appeals for the District of Columbia Circuit vacated the rules due to insufficient authority soon after their initial adoption. As directed by the CVAA, the Commission's Report and Order reinstated the video description rules, with certain modifications, effective October 8, 2011. The reinstated rules require large-market broadcast affiliates of the top four national networks and multichannel video programming distributor (“MVPD”) systems with more than 50,000 subscribers to provide video description.

Federal Communications Commission.
Marlene H. Dortch,
Secretary, Office of the Secretary, Office of Managing Director.

[FR Doc. 2014-00671 Filed 1-15-14; 8:45 am]

BILLING CODE 6712-01-P